ENVIRONMENTAL PROTECTION AGENCY

[FRL-7460-4]

Science Advisory Board; Request for Nominations for Experts for a Panel on Valuing the Protection of Ecological Systems and Services

AGENCY: Environmental Protection Agency (EPA).

ACTION: Notice.

SUMMARY: The EPA's SAB is announcing the formation of a new SAB Panel and is soliciting nominations for members of the panel.

DATES: Nominations should be submitted on or before March 28, 2003.

ADDRESSES: Nominations should be submitted in electronic format through the Form for Nominating Individuals to Panels of the EPA Science Advisory Board provided on the SAB Web site. The form can be accessed through a link on the blue navigational bar on the SAB Web site, http://www.epa.gov/sab. To be considered, all nominations must include the information required on that form. Anyone who is unable to submit nominations via this form may contact Dr. Angela Nugent, Designated Federal Officer, U.S. EPA Science Advisory Board (1400A), by telephone/voice mail at (202) 564-4562, by fax at (202) 501-0323, or via e-mail at nugent.angela@epa.gov.

FOR FURTHER INFORMATION CONTACT: Any member of the public wishing further information regarding this Request for Nomination may contact Dr. Angela Nugent at the address above.

SUPPLEMENTARY INFORMATION: 1. Action: Notice; request for nominations to a new “Panel on Valuing the Protection of Ecological Systems and Services” of the EPA's Science Advisory Board (SAB).

2. Summary: The EPA's SAB is announcing the formation of a new Panel to provide advice to strengthen the EPA's approaches for assessing the costs and benefits of environmental programs that protect ecological systems and services, to identify research needs to improve how ecological resources are valued, and to support decision making to protect ecological resources. The SAB is soliciting nominations to establish the members of the new Panel.

This Panel is being formed to provide advice to the Agency, as part of the EPA SAB's mission, to provide independent scientific and technical advice, consultation, and recommendations to the EPA Administrator on the technical bases for EPA regulations. The project it will undertake is a self-initiated project of the Board, intended as a multi-year effort; the background for the effort and the charge to the Panel is described below. The Board is a chartered Federal advisory Committee, which reports directly to the Administrator.

Members of the Panel will provide advice to the Agency, through the SAB's Executive Committee, over a two-to-three year period. Over that period, the Panel will comply with the provisions of FACA and all appropriate SAB procedural policies, including the SAB process for panel formation described in the Overview of the Panel Formation Process at the Environmental Protection Agency Science Advisory Board, which can be found on the SAB's Web site at: http://www.epa.gov/sab/pdf/ec02010.pdf.

3. Background: EPA's Strategic Plan (EPA-190-R-00-002) states as goals one, two and four that a major part of the EPA's mission is to safeguard the natural environment, air, water, healthy communities and ecosystems, upon which life depends. The goals address ecosystem protection and restoration. Goal one, for example, specifies links between reductions in air pollution and protection of the environment, and such benefits as restoring life in damaged ecosystems. The Agency is seeking scientific guidance on measures to improve quantification and characterization of benefits of protecting ecosystems and restoring life in damaged ecosystems and to inform environmental protection decisions.

Goals two and four of the EPA Strategic Plan include “the restoration and protection of watersheds and their aquatic ecosystems to improve public health, enhance water quality, reduce flooding, and provide habitat for wildlife and the desire of “preventing pollution and reducing risk in communities, homes, workplaces, and ecosystems.” Meeting these goals will require a scientifically rigorous method to quantify not only losses of commercially exploited ecosystem benefits (e.g., recreational fishing, impact of atmospheric sulfur and nitrogen oxides, lost commercial timber from ozone damage), but also to quantify and characterize the benefits of protecting ecological systems and services (emphasize more strongly) (e.g., carbon sequestration, water purification, water retention, biodiversity, existence values, aesthetic values, and habitat).

In short, the EPA needs a comprehensive effort that will improve the methods used to value the benefits of protecting ecological systems and services to facilitate Agency decisions concerning the protection and restoration of ecosystems. Developing and implementing such methods will assist the Agency in meeting the eighth Goal of the Strategic Plan, “to develop and apply the best available science for addressing current and future environmental hazards as well as new approaches toward improving environmental protection.”

The SAB Executive Committee has determined that the issue of protection of ecological systems and services and valuing of their protection is an important, multi-dimensional issue where the scientific and technical advice of the Board is needed. It has acknowledged that valuing the protection of ecological systems and services has proved a challenging problem for the Agency and existing SAB Advisory committees to address.

In regard to this last point, the Board notes that in 2001, the independent Advisory Council on Clean Air Compliance Analysis, whose chair sits on the SAB Executive Committee, identified that a “major effort” was needed “to develop credible methods to quantify and monetize the effects of marginal changes in air pollution on ecosystem processes” and to include non-market ecosystem services in future Section 812 reports (Draft Analytical Plan for EPA's Second Prospective Analysis—Benefits and costs of the Clean Air Act, 1990-2020: An Advisory by the Advisory Council for Clean Air Compliance EPA-SAB-COUNCIL-ADV-01-004). The Council advised the Agency to develop a major review of the economic literature focusing on the valuation of ecological systems and services, with the purpose of differentiating results more useful for the Agency's 812 analysis of ecological benefits from those less useful.

The SAB notes that the new Panel is likely to address many of the issues raised in a 2001 SAB report, Toward Integrated Environmental Decision Making (EPA-SAB-EC-00-011). That report noted the following impediments to the valuing of ecological systems and services: difficulty translating changes in ecological conditions into monetary units: difficulty measuring values placed on keeping ecosystems viable (“existence values”) because the public often does not have knowledge about ecological impacts; difficulty finding ecological services reflected well in markets; and difficulty measuring values such as equity and sustainability. The report also cited the following needs: better methods to estimate value the public places on protecting ecological conditions; better methods to incorporate values and preferences into decision-making; and more open dialogue among scientists and between scientists and decision makers.

The Board notes that many of these issues were also discussed at a joint EPA/SAB workshop in 2001, and documented in the report: Understanding Public Values and Attitudes Related to Ecological Risk Management: An SAB Workshop Report of an EPA/SAB Workshop (EPA-SAB-EC-WKSP-01-001). The workshop was a public meeting designed to demonstrate how researchers using different kinds of analytical methods, tools, and approaches from the social sciences can mutually inform each other and risk managers in understanding: (a) Public values and attitudes related to specific threats to ecological resources, such as Tampa Bay Estuary, a body of water threatened with nitrogen deposition and (b) the significance of those values to decision makers. The Report identified opportunities to improve consideration of values in environmental decision making in the following areas: environmental science; social, economic and behavioral sciences; actions to be taken by policy makers and their roles; roles and requirements of stakeholders; and research development and research needs.

4. Proposed Charge to the Panel: The Executive Committee notes that the panel will need to synthesize the existing serious work already invested on this issue and currently underway elsewhere and define and steer distinct activities where the SAB can add value to those efforts. Currently, the National Academy of Sciences is working on a project titled “Assessing and Valuing of Aquatic Ecosystem Services.” This project, which is being co-sponsored by the EPA, is meant to “evaluate methods for assessing services and associated economic values of aquatic and related terrestrial ecosystems. The Executive Committee desires coordination with efforts such as this one, so that the panel builds on the information and advice developed. It envisions a multi-year effort to build upon and go beyond past guidance and efforts to support the Agency's valuation methods. The SAB's effort would identify research needs to improve valuing of ecological resources and identify scientifically appropriate methods and suite of tools to be used to assist decision making to protect ecological resources. The Executive Committee envisions that the Panel will plan and conduct a series of activities designed to accomplish the following:

(a) Enhance the ability of ecological, economic, social, and technological analysis to contribute useful assessment of the value of changes in and the protection of ecosystems and ecosystem services.

(b) Explore alternative approaches (e.g., benefit-cost analysis, ecological analysis, and the analysis of public concerns and values) in terms of the soundness and reliability of the methods involved, the current evidentiary base associated with each, data gaps, and potential contributions to decision making.

(c) Identify research needs and priorities for the further development of each of these approaches and to explore innovative strategies to encourage new research and new investigators to address the value of ecological systems and services.

(d) Compare the different approaches, identifying areas of convergence and divergence and the potential for developing more integrative and synthetic approaches.

(e) Make recommendations as to how these alternative approaches may inform and be incorporated in the Agency's valuing the protection of ecological systems and services and to contribute to the work of other SAB committees.

Specific activities to respond to this charge are to be defined by the new SAB Panel.

5. SAB Request for Nominations: Any interested person or organization may nominate qualified individuals for membership on the Subcommittee. Individuals should have expertise in one or more of the following areas:

(a) Decision Science

(b) Ecology

(c) Economics

(d) Engineering

(e) Psychology

(f) Social Sciences with emphasis in ecosystem protection

Prior experience that involved valuing of ecosystems and services according to a structured scientific method is desirable.

6. Process and Deadline for Submitting Nominations: Any interested person or organization may nominate qualified individuals to add expertise in the above areas Panel. Nominations should be submitted in electronic format through the Form for Nominating Individuals to Panels of the EPA Science Advisory Board provided on the SAB Web site. The form can be accessed through a link on the blue navigational bar on the SAB Web site, MACROBUTTON HtmlResAnchor http://www.epa.gov/sab. To be considered, all nominations must include the information required on that form.

Anyone who is unable to submit nominations using this form may contact Dr. Angela Nugent at the mailing address above. Nominations should be submitted in time to arrive no later than 21 days after the publication date of this Federal Register Notice. Any questions concerning either this process or any other aspects notice should be directed to Dr. Nugent.

The EPA Science Advisory Board will acknowledge receipt of the nomination and inform nominators of the panel selected. From the nominees identified by respondents to this Federal Register notice (termed the “Widecast”), SAB Staff will develop a smaller subset (known as the “Short List”) for more detailed consideration. Criteria used by the SAB Staff in developing this Short List are given at the end of the following paragraph. The Short List will be posted on the SAB Web site at: http://www.epa.gov/sab, and will include, for each candidate, the nominee's name and their biosketch. Public comments will be accepted for 21 calendar days on the Short List. During this comment period, the public will be requested to provide information, analysis or other documentation on nominees that the SAB Staff should consider in evaluating candidates for Panel.

For the EPA SAB, a balanced review panel (i.e., committee, subcommittee, or panel) is characterized by inclusion of candidates who possess the necessary domains of knowledge, the relevant scientific perspectives (which, among other factors, can be influenced by work history and affiliation), and the collective breadth of experience to adequately address the charge. Public responses to the Short List candidates will be considered in the selection of the panel, along with information provided by candidates and information gathered by EPA SAB Staff independently on the background of each candidate (e.g., financial disclosure information and computer searches to evaluate a nominee's prior involvement with the topic under review). Specific criteria to be used in evaluating an individual subcommittee member include: (a) Scientific and/or technical expertise, knowledge, and experience (primary factors); (b) absence of financial conflicts of interest; (c) scientific credibility and impartiality; (d) availability and willingness to serve; and (e) ability to work constructively and effectively in committees.

Short List candidates will also be required to fill-out the “Confidential Financial Disclosure Form for Special Government Employees Serving on Federal Advisory Committees at the U.S. Environmental Protection Agency” (EPA Form 3110-48). This confidential form, which is submitted by EPA SAB Members and Consultants, allows Government officials to determine whether there is a statutory conflict between that person's public responsibilities (which includes membership on an EPA Federal advisory committee) and private interests and activities, or the appearance of a lack of impartiality, as defined by Federal regulation. The form may be viewed and downloaded from the following URL address: http://www.epa.gov/sab/pdf/epaform3110-48.pdf. Subcommittee members will likely be asked to attend at least one public face-to-face meeting and several public conference call meetings over the anticipated course of the advisory activity.

The approved policy under which the EPA SAB selects review panels is described in a recent SAB document, EPA Science Advisory Board (SAB) Panel Formation Process: Immediate Steps to Improve Policies and Procedures—An SAB Commentary (EPA-SAB-EC-COM-002-003), which can be found on the SAB's Web site at: (http://www.epa.gov/sab) http://www.epa.gov/sab/ecm02003.pdfhttp://www.epa.gov/sab/pdf/ecm02003.pdf.

Additional information concerning the EPA Science Advisory Board, including its structure, function, and composition, may be found on the EPA SAB Web site at: http://www.epa.gov/sab; and in the EPA Science Advisory Board FY2001 Annual Staff Report, which is available from the EPA SAB Publications Staff at phone: (202) 564-4533; via fax at: (202) 501-0256; or on the SAB Web site at: http://www.epa.gov/sab/annreport01.pdf.

7. For Further Information Contact: Any member of the public wishing further information regarding this Request for Nomination may contact Dr. Angela Nugent, Designated Federal Officer, U.S. EPA Science Advisory Board (1400A), Suite 6450C by telephone/voice mail at (202) 564-4562, by fax at (202) 501-0323; or via e-mail at nugent.angela@epa.gov.

Dated: February 28, 2003.
Vanessa T. Vu,
Director, EPA Science Advisory Board Staff Office.

[FR Doc. 03-5474 Filed 3-6-03; 8:45 am]

BILLING CODE 6560-50-P